COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete products and a service from the Procurement List that were furnished by nonprofit agencies employing persons who are blind or have other severe disabilities.

DATES: Comments must be received on or before: November 17, 2019.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and service are proposed for deletion from the Procurement List:

Products

NSN(s)—Product Name(s):

MR 10772—Tumblers, Striped, Includes Shipper 20772

MR 10773—Water Bottle, Includes Shipper 20773

MR 11101—Paper, Parchment, Includes Shipper 21101

MR 13112—Cookie Sheet, Small, 9″ x 13″

MR 10763—Kid's Baking Tools, Licensed, Whisk and Spoon, Includes Shipper 20763

MR 10764—Kid's Baking Tools, Licensed, Turner and Spatula, Includes Shipper 20763

MR 10765—Kid's Baking Tools, Licensed, Rolling Pin and Cookie Cutters, Includes Shipper 20763

MR 10766—Kid's Baking Tools, Licensed, Decorating Set, Includes Shipper 20763

MR 10760—Activity Pack, Licensed, Pokemon, Includes Shipper 20760

MR 10761—Sticker Pack, Licensed, Pokemon, Includes Shipper 20760

MR 10762—Pen, Licensed, Pokemon, Includes Shipper 20762

MR 10734—Socks, Halloween, Includes Shipper 20734

MR 10678—Berry Colander, Includes Shipper 20678

Mandatory Source of Supply: Winston-Salem Industries for the Blind, Inc., Winston-Salem, NC

Contracting Activity: Military Resale-Defense Commissary Agency

Service

Service Type: Janitorial/Custodial

Mandatory for: Jimmy Carter National Historic Site, Plains, GA

Mandatory Source of Supply: Middle Flint Behavioral HealthCare—Sumter County MR Center, Americus, GA

Contracting Activity: National Park Service, SER Regional Contracting OPO

Patricia Briscoe,
Deputy Director, Business Operations (Pricing and Information Management).

[FR Doc. 2019-22756 Filed 10-17-19; 8:45 am]

BILLING CODE 6353-01-P